DEPARTMENT OF ENERGY

Federal Energy Regulatory Commission

Combined Notice of Filings #1

Take notice that the Commission received the following exempt wholesale generator filings:

Docket Numbers: EG14-83-000.

Applicants: Regulus Solar, LLC.

Description: Notice of Self-Certification of Exempt Wholesale Generator Status of Regulus Solar, LLC.

Filed Date: 8/11/14.

Accession Number: 20140811-5179.

Comments Due: 5 p.m. ET 9/2/14.

Take notice that the Commission received the following electric rate filings:

Docket Numbers: ER14-1242-002.

Applicants: Midcontinent Independent System Operator, Inc.

Description: 2014-08-11_SA 6506_Presque Isle SSR Compliance Filing to be effective 2/1/2014.

Filed Date: 8/11/14.

Accession Number: 20140811-5169.

Comments Due: 5 p.m. ET 9/2/14.

Docket Numbers: ER14-1243-002.

Applicants: Midcontinent Independent System Operator, Inc.

Description: 2014-08-11_Presque Isle SSR Related Compliance Filing to be effective 4/3/2014.

Filed Date: 8/11/14.

Accession Number: 20140811-5167.

Comments Due: 5 p.m. ET 9/2/14.

Docket Numbers: ER14-1243-004.

Applicants: Midcontinent Independent System Operator, Inc.

Description: 2014-08-11_Presque Isle Schedule 43G Compliance Filing to be effective 4/3/2014.

Filed Date: 8/11/14.

Accession Number: 20140811-5185.

Comments Due: 5 p.m. ET 9/2/14.

Docket Numbers: ER14-2627-000.

Applicants: Midcontinent Independent System Operator, Inc., Ameren Illinois Company.

Description: 2014-08-11_SA 2685 Ameren-SIPC Wholesale Umbrella Construction Agreement to be effective 7/10/2014.

Filed Date: 8/11/14.

Accession Number: 20140811-5147.

Comments Due: 5 p.m. ET 9/2/14.

Docket Numbers: ER14-2628-000.

Applicants: Midcontinent Independent System Operator, Inc., Ameren Illinois Company.

Description: 2014-08-11_SA 2686 Ameren-SIPC Wholesale Connection Agreement to be effective 7/10/2014.

Filed Date: 8/11/14.

Accession Number: 20140811-5148.

Comments Due: 5 p.m. ET 9/2/14.

Docket Numbers: ER14-2629-000.

Applicants: California Independent System Operator Corporation.

Description: 2014-08-11_SycamorePenasquitos APSA to be effective 10/11/2014.

Filed Date: 8/11/14.

Accession Number: 20140811-5159.

Comments Due: 5 p.m. ET 9/2/14.

Docket Numbers: ER14-2630-000.

Applicants: Regulus Solar, LLC.

Description: Market Based Rate Schedule to be effective 8/12/2014.

Filed Date: 8/11/14.

Accession Number: 20140811-5166.

Comments Due: 5 p.m. ET 9/2/14.

Docket Numbers: ER14-2631-000.

Applicants: Atlantic City Electric Company.

Description: Market-Based Rate Tariff Revisions to be effective 8/12/2014.

Filed Date: 8/12/14.

Accession Number: 20140812-5001.

Comments Due: 5 p.m. ET 9/2/14.

Docket Numbers: ER14-2632-000.

Applicants: Delmarva Power & Light Company.

Description: Market-Based Rate Tariff Revisions to be effective 8/12/2014.

Filed Date: 8/12/14.

Accession Number: 20140812-5002.

Comments Due: 5 p.m. ET 9/2/14.

Docket Numbers: ER14-2633-000.

Applicants: Potomac Electric Power Company.

Description: Market-Based Rate Tariff Revisions to be effective 8/12/2014.

Filed Date: 8/12/14.

Accession Number: 20140812-5003.

Comments Due: 5 p.m. ET 9/2/14.

Docket Numbers: ER14-2634-000.

Applicants: Potomac Power Resources, LLC.

Description: Market-Based Rate Tariff Revisions and Notice of Succession to be effective 8/12/2014.

Filed Date: 8/12/14.

Accession Number: 20140812-5004.

Comments Due: 5 p.m. ET 9/2/14.

Docket Numbers: ER14-2635-000.

Applicants: Bethlehem Renewable Energy, LLC.

Description: Market-Based Rate Tariff Revisions to be effective 8/12/2014.

Filed Date: 8/12/14.

Accession Number: 20140812-5005.

Comments Due: 5 p.m. ET 9/2/14.

Docket Numbers: ER14-2636-000.

Applicants: Fauquier Landfill Gas, LLC.

Description: Market-Based Rate Tariff Revisions to be effective 8/12/2014.

Filed Date: 8/12/14.

Accession Number: 20140812-5006.

Comments Due: 5 p.m. ET 9/2/14.

Docket Numbers: ER14-2637-000.

Applicants: Eastern Landfill Gas, LLC.

Description: Market-Based Rate Tariff Revisions to be effective 8/12/2014.

Filed Date: 8/12/14.

Accession Number: 20140812-5007.

Comments Due: 5 p.m. ET 9/2/14.

Docket Numbers: ER14-2638-000.

Applicants: Pepco Energy Services, Inc.

Description: Market-Based Rate Tariff Revisions to be effective 8/12/2014.

Filed Date: 8/12/14.

Accession Number: 20140812-5041.

Comments Due: 5 p.m. ET 9/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2014.
Nathaniel J. Davis, Sr.,
Deputy Secretary.

[FR Doc. 2014-19656 Filed 8-19-14; 8:45 am]

BILLING CODE 6717-01-P